DEPARTMENT OF COMMERCE

Foreign-Trade Zones Board

[Order No. 1976]

Reorganization of Foreign-Trade Zone 80 Under Alternative Site Framework San Antonio, Texas

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of San Antonio, grantee of Foreign-Trade Zone 80, submitted an application to the Board (FTZ Docket B-77-2014, docketed October 22, 2014) for authority to reorganize under the ASF with a service area of Bexar County in its entirety and portions of Comal and Guadalupe Counties, Texas, in and adjacent to the San Antonio Customs and Border Protection port of entry, to renumber existing Site 7A as Site 7, to renumber existing Site 7B as Site 11, and FTZ 80's Sites 1 through 11 (as renumbered) would be categorized as magnet sites;

Whereas, notice inviting public comment was given in the Federal Register (79 FR 64169, October 28, 2014) and the application has been processed pursuant to the FTZ Act and the Board's regulations; and,

Whereas, the Board adopts the findings and recommendation of the examiner's report, and finds that the requirements of the FTZ Act and the Board's regulations are satisfied;

Now, Therefore, the Board hereby orders:

The application to reorganize FTZ 80 under the ASF is approved, subject to the FTZ Act and the Board's regulations, including § 400.13, to the Board's standard 2,000-acre activation limit for the zone, and to an ASF sunset provision for magnet sites that would terminate authority for Sites 1, 2, 4, 5, 6, 7, 8, 9, 10 and 11 if not activated within five years from the month of approval.

Signed at Washington, DC, this 9th day of April, 2015.
Ronald K. Lorentzen,
Acting Assistant Secretary of Commerce for Enforcement and Compliance, Alternate Chairman, Foreign-Trade Zones Board.
Attest:
Andrew McGilvray,
Executive Secretary.

[FR Doc. 2015-08782 Filed 4-15-15; 8:45 am]

BILLING CODE 3510-DS-P